DEPARTMENT OF ENERGY

10 CFR Part 430

[Docket No. EERE-2007-BT-STD-0010]

RIN 1904-AA89

Energy Efficiency Program for Certain Commercial and Industrial Equipment: Public Meeting and Availability of the Framework Document for Residential Clothes Dryers and Room Air Conditioners; Correction

AGENCY: Department of Energy (DOE).

ACTION: Notice of public meeting and availability of the Framework Document; correction.

SUMMARY: DOE published in the Federal Register, Tuesday, October 9, 2007, a notice Energy Efficiency for Certain Commercial and Industrial Equipment: Public Meeting and Availability of the Framework Document for Residential Clothes Dryers and Room Air Conditioners. In that notice, there was an error in the date for accepting comments.

FOR FURTHER INFORMATION CONTACT: Stephen Witkowski, U.S. Department of Energy, Office of Energy Efficiency and Renewable Energy, Building Technologies, EE-2J, 1000 Independence Avenue, SW., Washington, DC 20585-0121. Telephone: (202) 586-7463. E-mail: Stephen.Witkowski@ee.doe.gov.

Correction

In proposed rule FR Doc. E7-19808 appearing on page 57254 in the issue of Tuesday, October 9, 2007, the following correction should be made:

On page 57255, second column, the date in lines twenty-six and twenty-seven is corrected to read: November 7, 2007.

Issued in Washington, DC on October 12, 2007.
Alexander A. Karsner,
Assistant Secretary, Energy Efficiency and Renewable Energy.

[FR Doc. E7-20555 Filed 10-17-07; 8:45 am]

BILLING CODE 6450-01-P